DEPARTMENT OF THE INTERIOR

Bureau of Indian Affairs

Lytton Rancheria of California Ordinance Governing the Sale, Consumption, and Possession of Alcoholic Beverages

AGENCY: Bureau of Indian Affairs, Interior.

ACTION: Notice.

SUMMARY: This notice publishes the Lytton Rancheria of California Liquor Ordinance. The ordinance regulates and controls the distribution, sale, consumption, possession, inspection, licensing, enforcement and legal compliance associated with the introduction of alcohol at the Casino San Pablo premises, Contra Costa County, California.

EFFECTIVE DATE: This Ordinance is effective on December 5, 2003.

FOR FURTHER INFORMATION CONTACT: Duane T. Bird Bear, Office of Tribal Services, Bureau of Indian Affairs, 1951 Constitution Avenue, NW., MS-320-SIB, Washington, DC 20240, Telephone: (202) 513-7641.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian Country. The Tribal Council of the Lytton Rancheria of California, also known as the Lytton Band of Pomo Indians, adopted a Tribal Liquor Ordinance on April 10, 2001. The purpose of this ordinance is to govern the distribution, sale, consumption, possession, inspection, licensing, enforcement and legal compliance associated with the introduction of alcohol on the Casino San Pablo premises in the County of Contra Costa, California.

This notice is published in accordance with the authority delegated by the Secretary of the Interior to the Principal Deputy Assistant Secretary—Indian Affairs. Amendments to the ordinance are subject to the approval of the Assistant Secretary for Indian Affairs and shall be published in the Federal Register before the amendments become effective.

I certify that the Tribal Liquor Ordinance was duly adopted by the Tribal Council of the Lytton Band of Pomo Indians on April 10, 2001.

Dated: November 21, 2003.
Aurene M. Martin,
Principal Deputy Assistant Secretary—Indian Affairs.

The Lytton Rancheria of California Liquor Ordinance reads as follows:

Resolution of the Lytton Rancheria (Lytton Band of Pomo Indians)

Adopting an Ordinance Governing the Sale, Consumption, and Possession of Alcoholic Beverages at Lytton's Casino San Pablo

Whereas: The Lytton Band of Pomo Indians (“the Tribe”) plans to own and operate the Casino San Pablo and to offer Class II and Class III gaming there pursuant to federal and tribal law, a tribal-state compact, and its Municipal Services Agreement with the City of San Pablo; and

Whereas: The Tribe has determined that it is in its best interest for the sale of alcoholic beverages at Casino San Pablo to continue pursuant to state, federal, and tribal law after the Tribe becomes the owner and operator of Casino San Pablo;

It is therefore resolved that the Tribe hereby adopts the following Ordinance, to become effective as set forth therein:

Lytton Rancheria (Lytton Band of Pomo Indians) Contra Costa County, California

Sale, Possession, and Consumption of Alcoholic Beverages

The Tribal Council (hereinafter “Council”) of the Lytton Rancheria (hereinafter “Tribe”), also known as the Lytton Band of Pomo Indians, hereby enacts this Ordinance to govern the sale and consumption of alcoholic beverages on Rancheria lands in Contra Costa County, California.

Preamble

A. Title 18, United States Code, Section 1161, provides Indian tribes with authority to enact ordinances governing the consumption and sale of alcoholic beverages on their Reservations, provided such ordinance is certified by the Secretary of the Interior and published in the Federal Register and such activities are in conformity with state law.

B. Pursuant to Article III of the Tribe's Constitution, the Tribal Council is the governing body of the Tribe. Pursuant to Article XIII of the Constitution, the Tribal Council is empowered to promulgate and enforce tribal laws exercising the Tribe's regulatory authority for the protection of public health and safety (Section 13.1 (f)) and administering all lands and assets and managing all economic affairs, planning and enterprises of the Tribe (Section 13.1(e); and to regulate the conduct of all persons who enter the jurisdiction of the Tribe (Section 13.1(i)).

C. Pursuant to Article I of the Tribe's Constitution, the territorial jurisdiction of the Tribe includes all lands held in trust by the United States for and possessed or occupied by the Tribe or its members.

D. Pursuant to Section 819 of the Omnibus Indian Advancement Act of 2000 (“the Act”), the United States is to become the owner in trust for Tribe of that certain Contra Costa County, California property (“the Property”) described in the Act, which is commonly known as Casino San Pablo. Immediately upon acceptance by the United States of the Property in trust of the Tribe, the Tribe will become the owner and operator of Casino San Pablo (the “Facility”) pursuant to the Indian Gaming Regulatory Act. The Facility will be an integral and indispensable part of the Tribe's economy, providing income to the Tribe and training and employment to its members. The Tribal Council has determined that it is in the Tribe's best interest to offer alcoholic beverages for sale and consumption in the Facility.

E. Pursuant to its Ordinance Restricting Gaming Activities And Areas At Lytton's Casino San Pablo To Persons Of The Age Of Twenty-One Years Old And Older, the Tribe has restricted gaming activities in the Facility to persons over the age of twenty-one years old.

F. It is the purpose of this Ordinance to set out the terms and conditions under which the sale and consumption of said alcoholic beverages may take place.

General Terms

1. The sale of alcoholic beverages within the Facility, for on-Premises consumption only, is hereby authorized.

2. No alcoholic beverages may be sold at any location on the Rancheria other than inside the Facility.

3. The sale of said alcoholic beverages authorized by this Ordinance shall be in conformity with all applicable laws of the State of California, and the sale of said beverages shall be subject to state sales tax, federal excise tax and any fees required by the Federal Bureau of Alcohol, Tobacco and Firearms. This includes but is not limited to the following examples:

a. No person under the age of 21 years shall consume, acquire or have in his or her possession at the Premises any alcoholic beverage.

b. No person shall sell alcohol to any person under the age of 21 at the Premises.

c. No person shall sell alcohol to a person apparently under the influence of liquor at the Premises.

4. Where there may be a question of a person's right to purchase liquor by reason of his or her age, such person shall be required to present any one of the following types of identification which shows his or her correct age and bears his or her signature and photograph: (1) Driver's license or identification card issued by any state Department of Motor Vehicles; (2) United States Active Duty Military card; (3) passport.

5. All liquor sales within the Premises shall be on a cash only basis and no credit shall be extended to any person, organization or entity, except that this provision does not prevent the use of major credit cards.

Posting

6. This Ordinance shall be conspicuously posted within the Premises at all times it is open to the public.

Enforcement

7. This Ordinance may be enforced by the Tribal Council and by any additional tribal government agencies to which the Tribal Council may from time to time by resolution delegate such enforcement powers. Enforcement sanctions may include, but are not limited to, the assessment of monetary fines not to exceed $500 and revocation of authorization to sell alcohol at the Facility. Prior to any enforcement action, any alleged violator of this Ordinance shall be provided with at least three (3) days notice in writing of an opportunity to be heard during a hearing at which due process is provided. The decision of the Tribal Council or other agency with delegated authority after such hearing shall be final.

Severability

8. If any provision or application of this Ordinance is determined by the Tribal Council or other agency with delegated authority to be invalid, such adjudication shall not be held to render ineffectual the remaining portions of this Ordinance or to render such provisions inapplicable to other circumstances.

Amendment

9. This Ordinance may only be amended by a majority vote of the Tribal Council and such amendment shall be subject to the provisions of Title 18, United States Code, Section 1161.

Sovereign Immunity

10. Nothing in this Ordinance in any way limits, alters, restricts or waives the Tribe's sovereign immunity from unconsented suit, claim, or action.

Effective Date

11. This Ordinance shall not be effective until: (1) It is certified by the Secretary of the Interior and published in the Federal Register, and (2) the Property is accepted by the United States in trust for the Tribe. Its effective date shall be the date of the happening of the later of those actions.

Certification

The foregoing Resolution was adopted by a vote of 7 for, and -0- against and -0- abstentions, at a duly called meeting of the Tribal Council of the Lytton Rancheria (aka the Lytton Band of Pomo Indians) at which a quorum was present, on this 10th day of April, 2001.

Margie Mejia,

Tribal Chair.

Danny O'Campo,

Tribal Secretary.

[FR Doc. 03-30243 Filed 12-4-03; 8:45 am]

BILLING CODE 4310-4J-P